DEPARTMENT OF HEALTH AND HUMAN SERVICES

Administration for Community Living

Administration on Disabilities, President's Committee for People With Intellectual Disabilities

AGENCY: Administration for Community Living, HHS.

ACTION: Notice.

SUMMARY: The President's Committee for People with Intellectual Disabilities (PCPID) will host a webinar/conference call for its members to discuss the potential topics of the Committee's 2017 Report to the President. All the PCPID meetings, in any format, are open to the public. This virtual meeting will be conducted in a discussion format.

DATES: Webinar: Monday, August 22, 2016 from 1:30 p.m. to 3:00 p.m. (EST).

ADDRESSES: Webinar Web page: https://meetingserver.hhs.gov/orion/joinmeeting.do?ED=QtF0ep1Kkddkw3ioj3RkaQ==

FOR FURTHER INFORMATION AND REASONABLE ACCOMMODATIONS NEEDS CONTACT: Dr. MJ Karimi, PCPID Team Lead, 330 C Street SW., 1108A, Washington, DC 20201. Email: MJ.Karimie@acl.hhs.gov; telephone: 202-79-7374; fax: 202-205-0402.

SUPPLEMENTARY INFORMATION: The Committee held a conference call on May 2, 2016 to discuss and finalize the Committee's 2016 Report to the President. The purpose of this virtual meeting is to provide PCPID members with an update on submission of the 2016 Report to the President and to begin exploring the topics for the Committee's 2017 report.

Webinar/Conference Call: The webinar is scheduled for August 22, 2016, 1:30 p.m. to 3:00 p.m. (EST) and may end early if discussions are finished.

Instructions to Participate in the Webinar/Conference Call on Monday, August 22, 2016:

1. Enter the following WebEx Link: https://meetingserver.hhs.gov/orion/joinmeeting.do?ED=QtF0ep1Kkddkw3ioj3RkaQ==

2. Click on the “join” button on the page

3. Enter your name and email address

4. Follow additional instructions as provided by WebEx. This WebEx does not require a password.

5. Please dial: (888) 469-0940; Pass Code: 5315454 (you should put your phone on mute during the meeting)

Background Information on the Committee: The PCPID acts in an advisory capacity to the President and the Secretary of Health and Human Services on a broad range of topics relating to programs, services and support for individuals with intellectual disabilities. The PCPID Executive Order stipulates that the Committee shall: (1) provide such advice concerning intellectual disabilities as the President or the Secretary of Health and Human Services may request; and (2) provide advice to the President concerning the following for people with intellectual disabilities: (A) expansion of educational opportunities; (B) promotion of homeownership; (C) assurance of workplace integration; (D) improvement of transportation options; (E) expansion of full access to community living; and (F) increasing access to assistive and universally designed technologies.

Dated: July 6, 2016.
Aaron Bishop,
Commissioner, Administration on Disabilities.

[FR Doc. 2016-16980 Filed 7-18-16; 8:45 am]

BILLING CODE 4154-01-P